NUCLEAR REGULATORY COMMISSION

Sunshine Act Meeting

Date: Weeks of July 4, 11, 18, 25, August 1, 8, 2005.

Place: Commissioners' Conference Room, 11555 Rockville Pike, Rockville, Maryland.

Status: Public and closed.

Matters to be Considered:

Week of July 4, 2005

There are no meetings scheduled for the week of July 4, 2005.

Week of July 11, 2005—Tentative

There are no meetings scheduled for the week of July 11, 2005.

Week of July 18, 2005—Tentative

There are no meetings scheduled for the week of July 18, 2005.

Week of July 25, 2005—Tentative

Thursday, July 28, 2005.

1:30 p.m. Discussion of Security Issues (Closed—Ex. 1).

Week of August 1, 2005—Tentative

There are no meetings scheduled for the week of August 1, 2005.

Week of August 8, 2005—Tentative

There are no meetings scheduled for the week of August 8, 2005.

* The schedule for Commission meetings is subject to change on short notice. To verify the status of meetings call (recording)—(301) 415-1292. Contact person for more information: Michelle Schroll, (301) 415-1662.

Additional Information: Affirmation of item b. (1) Exelon Generation Company, LLC (Early Site Permit for Clinton ESP Site), Docket No. 52-007-ESP; (2) Dominion Nuclear North Anna, LLC (Early Site Permit for North Anna ESP Site), Docket No. 52-008-ESP; (3) System Energy Resources, Inc. (Early Site Permit for Grand Gulf ESP Site), Docket No. 52-009-ESP; (4) Louisiana Energy Services, LP. (National Enrichment Facility), Docket No. 70-3103-ML; (5) USEC Inc. (American Centrifuge Plant), Docket No. 70-7004, Guidance on Mandatory Hearings, tentatively scheduled on Wednesday, June 29, 2005, at 9:25 a.m. was not held.

By a vote of 5-0 on June 29, the Commission determined pursuant to U.S.C. 552b(e) and § 9.107(a) of the Commission's rules that “Discussion of Intergovernmental Issues (Closed—Ex. 9)” be held June 29, and on less than one week's notice to the public.

The NRC Commission Meeting Schedule can be found on the Internet at: http://www.nrc.gov/what-we-do/policy-making/schedule.html.

The NRC provides reasonable accommodation to individuals with disabilities where appropriate. If you need a reasonable accommodation to participate in these public meetings, or need this meeting notice or the transcript or other information from the public meetings in another format (e.g., braille, large print), please notify the NRC's Disability Program Coordinator, August Spector, at (301) 415-7080, TDD: (301) 415-2100, or by e-mail at aks.@nrc.gov. Determinations on requests for reasonable accommodation will be made on a case-by-case basis.

This notice is distributed by mail to several hundred subscribers. If you no longer with to receive it, or would like to be added to the distribution, please contact the Office of the Secretary, Washington, DC 20555 (301) 415-1969. In addition, distribution of this meeting notice over the Internet system is available. If you are interested in receiving this Commission meeting schedule electronically, please send an electronic message to dkw@nrc.gov.

Dated: June 30, 2005.
R. Michelle Schroll,
Office of the Secretary.

[FR Doc. 05-13419 Filed 7-5-05; 10:15 am]

BILLING CODE 7590-01-M